DEPARTMENT OF HOMELAND SECURITY

Transportation Security Administration

Extension of Agency Information Collection Activity Under OMB Review: Pipeline System Operator Security Information

AGENCY: Transportation Security Administration, DHS.

ACTION: 30-Day notice.

SUMMARY: This notice announces that the Transportation Security Administration (TSA) has forwarded the Information Collection Request (ICR), Office of Management and Budget (OMB) control number 1652-0055, abstracted below to OMB for review and approval of an extension of the currently approved collection under the Paperwork Reduction Act (PRA). The ICR describes the nature of the information collection and its expected burden. TSA published a Federal Register notice, with a 60-day comment period soliciting comments, of the following collection of information on August 16, 2013, 78 FR 50077. Specifically, the collection involves the submission of contact information for a pipeline company's primary and alternate security manager and the telephone number of the security operations or control center, as well as data concerning pipeline security incidents.

DATES: Send your comments by January 22, 2014. A comment to OMB is most effective if OMB receives it within 30 days of publication.

ADDRESSES: Interested persons are invited to submit written comments on the proposed information collection to the Office of Information and Regulatory Affairs, OMB. Comments should be addressed to Desk Officer, Department of Homeland Security/TSA, and sent via electronic mail to oira_submission@omb.eop.gov or faxed to (202) 395-6974.

FOR FURTHER INFORMATION CONTACT: Joanna Johnson, TSA PRA Officer, Office of Information Technology (OIT), TSA-11, Transportation Security Administration, 601 South 12th Street, Arlington, VA 20598-6011; telephone (571) 227-3651; email TSAPRA@dhs.gov.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: Pipeline System Operator Security Information.

Type of Request: Extension of a currently approved collection.

OMB Control Number: 1652-0055.

Forms(s): NA.

Affected Public: Pipeline system operators.

Abstract: OMB Control Number 1652-0055; Pipeline Operator Security Information. Under the Aviation and Transportation Security Act (ATSA) (Pub. L. 107-71, 115 Stat. 597 (November 19, 2001)) and delegated authority from the Secretary of Homeland Security, TSA has broad responsibility and authority for “security in all modes of transportation * * * including security responsibilities * * * over modes of transportation that are exercised by the Department of Transportation.” As the lead Federal agency for pipeline security, it is important for TSA to have contact information for company security managers and knowledge of security incidents and suspicious activity within the mode. This issue was addressed in the TSA Pipeline Security Guidelines developed in consultation with TSA's Federal partners and relevant industry stakeholders. Additionally, to facilitate the exchange of security information in a timely fashion, contact data is necessary for pipeline operators' security operations or control centers.

Number of Respondents: 3340.

Estimated Annual Burden Hours: An estimated 845 hours annually.

Dated: December 17, 2013.
Joanna Johnson,
TSA Paperwork Reduction Act Officer, Office of Information Technology.

[FR Doc. 2013-30526 Filed 12-20-13; 8:45 am]

BILLING CODE 9110-05-P